DEPARTMENT OF JUSTICE

Antitrust Division

Notice Pursuant to the National Cooperative Research and Production Act of 1993—Management Service Providers Association, Inc.

Notice is hereby given that, on October 23, 2002, pursuant to section 6(a) of the National Cooperative Research and Production Act of 1993, 15 U.S.C. 4301 et seq. (“the Act”), Management Service Providers Association, Inc. has filed written notifications simultaneously with the Attorney General and the Federal Trade Commission disclosing changes in its membership status. The notifications were filed for the purpose of extending the Act's provisions limiting the recovery of antitrust plaintiffs to actual damages under specified circumstances. Specifically, Bangalore Labs, Bangalore, Karnataka, India; Logical Managed Services, Cincinnati, OH; Global Data Systems, Inc., Pembroke, MA; and Rave Financial Services, Sterling Heights, MI have been added as parties to this venture. Also, Triactive, Austin, TX and MacAfee, Sunnyvale, CA have been dropped as parties to this venture; and S Net, Seoul, Republic of Korea has changed its name to S Com Networkis.

No other changes have been made in either the membership or planned activity of the group research project. Membership in this group research project remains open, and Management Service Providers Association, Inc. intends to file additional written notification disclosing all changes in membership.

On October 20, 2000, Management Service Providers Association, Inc. filed its original notification pursuant to section 6(a) of the Act. The Department of Justice published a notice in the Federal Register pursuant to section 6(b) of the Act on November 24, 2000 (65 FR 70613).

The last notification was filed with the Department on July 31, 2002. A notice was published in the Federal Register pursuant to section 6(b) of the Act on September 12, 2002 (67 FR 57853).

Constance K. Robinson,
Director of Operations, Antitrust Division.

[FR Doc. 02-30794 Filed 12-4-02; 8:45 am]

BILLING CODE 4410-11-M